DEPARTMENT OF HEALTH AND HUMAN SERVICES

Centers for Disease Control and Prevention

[Program Announcement 01113]

Environmental Health Epidemiology Resource Development for Mexico and Latin American Countries Notice of Availability of Funds

A. Purpose

The Centers for Disease Control and Prevention (CDC) announces the availability of fiscal year (FY) 2001 funds for a cooperative agreement program with the Instituto Nacional de Salud Publica (INSP).This program addresses the “Healthy People 2010” focus area of Environmental Health.

The purpose of the program is to establish an environmental health epidemiology, environmental health professional training, and demonstration and training service delivery program based in a university setting in Mexico, with the objective to: Measurably improve and increase human resource expertise in the field of environmental epidemiology and health services delivery, in terms of availability and quality of practice, in Mexico and throughout the Latin American and Caribbean country region.

No human subjects research will be supported under this cooperative agreement.

B. Eligible Applicant

Assistance will be provided only to the Instituto Nacional de Salud Publica (INSP). No other applications are solicited.

The INSP, as the national institute of public health of the Government of Mexico, is the most appropriate and qualified agency to provide the services specified under this cooperative agreement because:

The INSP is a leading environmental health epidemiology teaching institution, both at the undergraduate and graduate levels, in Mexico and the Latin American and Caribbean country region, and is the only public health teaching institution in the region whose mission scope covers the entire region.

The INSP has formal collaborative arrangements with other teaching institutions in Mexico, including those located near the Mexico-U.S. border, and with those in other countries in the region which provide the entre for establishing and maintaining the environmental health epidemiology training and demonstration program supported by this cooperative agreement.

The INSP has a highly qualified doctoral and master's level teaching staff whose responsibilities include the conduct of programs related to the achievement of the environmental health epidemiology and fellow training activities which are the intended objectives of this cooperative agreement.

Note: Title 2 of the United States Code, Section 1611, states that an organization described in Section 501(c) (4) of the Internal Revenue Code that engages in lobbying activities is not eligible to receive Federal funds constituting an award, grant, cooperative agreement, contract, loan, or any other form.

C. Availability of Funds

Approximately $229,000 is available in FY 2001 to support this program. It is expected that the award will begin on September 30, 2001, and will be made for a 12-month budget period within a project period of up to five years. Funding estimates may change.

Continuation awards within an approved project period will be made on the basis of satisfactory progress as evidenced by required reports and the availability of funds.

D. Where to Obtain Additional Information

To obtain business management technical assistance, contact: Sharron Orum, Lead Grants Management Specialist, Grants Management Branch, Procurement and Grants Office, Centers for Disease Control and Prevention, 2920 Brandywine Road, Room 3000, Atlanta, GA 30341-4146, Telephone number: (770) 488-2716, E-mail address: spo2@cdc.gov

For program technical assistance, contact: Michael A. McGeehin, PhD, MSPH, Director, Division of Environmental Hazards and Health Effects, National Center for Environmental Health, 6 Executive Park Drive, Atlanta, GA 30329, Telephone number: (404) 498-1300, Email address: Mmcgeehin@cdc.gov

Dated: June 19, 2001.
John L. Williams,
Director, Procurement and Grants Office, Centers for Disease Control and Prevention (CDC).

[FR Doc. 01-15819 Filed 6-22-01; 8:45 am]

BILLING CODE 4163-18-P